DEPARTMENT OF COMMERCE

[I.D. 011001D]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Applications and Reporting Requirements for Small Takes of Marine Mammals by Specified Activities Under the Marine Mammal Protection Act.

Form Number(s): None.

OMB Approval Number: 0648-0151.

Type of Request: Regular submission.

Burden Hours: 7,512.

Number of Respondents: 44.

Average Hours Per Response: 483 hours for a request for new or renewal of regulations, 25.8 hours for an application for a Letter of Authorization, 200 hours for an application for Incidental Harassment Authorizations, 120 hours for a report for Incidental Harassment, and 93.6 hours for a report under a Letter of Authorization.

Needs and Uses: The taking by harassment, injury, or mortality of marine mammals is prohibited by the Marine Mammal Protection Act (MMPA) unless exempted or authorized by permit. The small-take program authorized the taking of marine mammals incidental to maritime activities (military, oil industry, shipping). It is the responsibility of the activity to determine if it might have a “taking” and, if it does, to apply for an authorization. Applications are necessary for NMFS to know that an authorization is needed and to determine whether authorization can be made under the MMPA. Reporting requirements are mandated by the MMPA and are necessary to ensure that determinations made in regard to the impact on marine mammals are valid.

Affected Public: Business and other for-profit organization, not-for-profit institutions, Federal government, and State, Local, or Tribal government.

Frequency: On occasion, annual, 90 days.

Respondent's Obligation: Mandatory.

OMB Desk Officer: David Rostker, (202) 395-3897.

Copies of the above information collection proposal can be obtained by calling or writing Madeleine Clayton, Departmental Forms Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: January 9, 2001
Gwellnar Banks,
Management Analyst, Office of the Chief Information Officer.

[FR Doc. 01-1373 Filed 1-16-01; 8:45am]

BILLING CODE 3510-22-S